DEPARTMENT OF ENERGY

Federal Energy Regulatory Commission

Notice of Petition for Declaratory Order and Solicitation of Comments, Protests, and Motions To Intervene

May 15, 2002.

Take notice that the following application has been filed with the Commission and is available for public inspection:

a. Application Type: Petition for Declaratory Order.

b. Project No: JR00-2-000, P-9100-011.

c. Date Filed: January 10, 2000.

d. Applicant: James M. Knott, Sr.

e. Name of Project: Riverdale Mills Project.

f. Location: The project is located on the Blackstone River in Worcester County, Village of Riverdale, Massachusetts. This project will not occupy Federal or Tribal lands.

g. Filed Pursuant to: Section 23(b)(1) of the Federal Power Act, 16 USC 817 (b).

h. Applicant Contact: Jamy B. Buchanan, Esq., Buchanan & Associates, 33 Mt. Vernon St., Boston, MA 02108, telephone: (617) 227-8410.

i. FERC Contact: Any questions on this notice should be addressed to Henry Ecton (202) 219-2678, or e-mail address: henry.ecton@ferc.gov.

j. Deadline for Filing Comments, Protests, and/or Motions To Intervene: June 17, 2002.

All documents (original and eight copies) should be filed with: Magalie R. Salas, Secretary, Federal Energy Regulatory Commission, 888 First Street, NE., Washington, DC 20426. Comments, protests, and motions to intervene may be filed electronically via the Internet in lieu of paper. Any questions, please contact the Secretary's Office. See, 18 CFR 385.2001(a)(1)(iii) and the instructions on the Commission's web site at http://www.ferc.gov. under the “e-Filing” link.

Please include the docket number (JR00-2-000, P-9100-011) on any comments, protests, or motions to intervene filed.

k. Description of Project: The Riverdale Mills Project consists of: (1) A 142-foot-long, 10-foot-high concrete and steel dam with crest elevation of 262.35 feet m.s.l.; (2) a reservoir with a surface area of 11.8 acres; (3) five collapsible stanchion and one modulator gate located on six bays; (4) a 8-foot-wide, 115-foot-long sluiceway that conveys water to the turbine; (5) a 150 kW generator, located in the mill building; (6) a 231-foot-long tailrace; and (7) appurtenant facilities.

When a Petition for Declaratory Order is filed with the Federal Energy Regulatory Commission, the Federal Power Act (FPA), 16 U.S.C. 817 (1), requires the Commission to investigate and determine whether or not the project is required to be licensed. Pursuant to Section 23(b)(1) of the FPA, a non-federal hydroelectric project must (unless it has a still-valid pre-1920 federal permit) be licensed if it is located on a navigable water of the United States; occupies lands of the United States; utilizes surplus water or water power from a government dam; or is located on a body of water over which Congress has Commerce Clause jurisdiction, project construction occurred on or after August 26, 1935, and the project affects the interests of interstate or foreign commerce. The purpose of this notice is to gather information to determine whether the existing project meets any or all of the above criteria, as required by the FPA. Copies of “A Supplement to the Navigation Status Report Blackstone River Massachusetts,” and “Materials Discovered in Research” are available on RIMS on the Web under JR00-2-000.

l. Locations of the Application: A copy of the application is available for inspection and reproduction at the Commission's Public Reference Room, located at 888 First Street, NE, Room 2A, Washington, DC 20426, or by calling (202) 208-1371. This filing may also be viewed on the web at http://www.ferc.gov using the “RIMS” link, select “Docket#” and follow the instructions (call 202-208-2222 for assistance).

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “PROTEST”, or “MOTION TO INTERVENE”, as applicable, and the Docket Number of the particular application to which the filing refers. A copy of any motion to intervene must also be served upon each representative of the Applicant specified in the particular application.

p. Agency Comments—Federal, state, and local agencies are invited to file comments on the described application. If an agency does not file comments within the time specified for filing comments, it will be presumed to have no comments. One copy of an agency's comments must also be sent to the Applicant's representatives.

Linwood A. Watson, Jr.,
Deputy Secretary.

[FR Doc. 02-12743 Filed 5-21-02; 8:45 am]

BILLING CODE 6717-01-P